DEPARTMENT OF TRANSPORTATION

Office of the Secretary

Applications of Orange Air, LLC for Certificate Authority

AGENCY: Department of Transportation.

ACTION: Notice of Order to Show Cause (Order 2011-11-11) Dockets DOT-OST-2011-0073 and DOT-OST-2011-0074.

SUMMARY: The Department of Transportation is directing all interested persons to show cause why it should not issue orders finding Orange Air, LLC, fit, willing, and able, and awarding it certificates of public convenience and necessity to engage in interstate and foreign charter air transportation of persons, property, and mail using one large aircraft.

DATES: Persons wishing to file objections should do so no later than November 30, 2011.

ADDRESSES: Objections and answers to objections should be filed in Dockets DOT-OST-2011-0073 and DOT-OST-2011-0074 and addressed to U.S. Department of Transportation, Docket Operations, (M-30, Room W12-140), 1200 New Jersey Avenue SE., West Building Ground Floor, Washington, DC 20590, and should be served upon the parties listed in Attachment A to the order.

FOR FURTHER INFORMATION CONTACT: Vanessa R. Balgobin, Air Carrier Fitness Division (X-56, Room W86-487), U.S. Department of Transportation, 1200 New Jersey Avenue SE., Washington, DC 20590, (202) 366-9721.

Dated: November 9, 2011.
Robert A. Letteney,
Deputy Assistant Secretary for Aviation and International Affairs.

[FR Doc. 2011-29555 Filed 11-15-11; 8:45 am]

BILLING CODE P